DEPARTMENT OF THE INTERIOR

National Park Service

[NPS-WASO-NAGPRA-NPS0025564; PPWOCRADN0-PCU00RP14.R50000]

Notice of Inventory Completion: University of Arkansas Museum Collections, Fayetteville, AR

AGENCY: National Park Service, Interior.

ACTION: Notice.

SUMMARY: The University of Arkansas Museum Collections has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Arkansas Museum Collections. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human and associated funerary objects remains should submit a written request with information in support of the request to the University of Arkansas Museum Collections at the address in this notice by July 18, 2018.

ADDRESSES: Mary Suter, University of Arkansas Museum Collections, Biomass Building 125, 2435 North Hatch Avenue, Fayetteville, AR 72704, telephone (479) 575-3456, email msuter@uark.edu.

SUPPLEMENTARY INFORMATION: Notice is here given in accordance with the Native American Graves Protection and Repatriation Act (NAGPRA), 25 U.S.C. 3003, of the completion of an inventory of human remains and associated funerary objects under the control of the University of Arkansas Museum Collections, Fayetteville, AR. The human remains and associated funerary objects were removed from Spiro Mound (34LF40), Le Flore County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Arkansas Museum Collections professional staff in consultation with representatives of the Caddo Nation of Oklahoma and the Wichita and Affiliated Tribes (Wichita, Keechi, Waco & Tawakonie), Oklahoma.

History and Description of the Remains

In the 1930s, human remains representing, at minimum, three individuals were removed from Spiro Mound in Le Flore County, OK. Samuel Dellinger, Curator of the University of Arkansas Museum, purchased these remains after they had been removed from the site by the Pocola Mining Company, which leased the land on which Spiro Mound is located. The company removed human remains and artifacts from the site between 1933 and 1935. The human remains—three skulls—entered the University of Arkansas Museum collections in 1937. No known individuals were identified. The one associated funerary object is a fragmented copper band that had been placed around the head of one of the individuals.

Spiro Mound is believed to have been occupied for at least 550 years. Evidence of a Woodland period occupation of the site may be related to the Fourche Maline phase of that period. James A. Brown divides the Mississippi period occupation of Spiro Mound into four phases, beginning around A.D. 900 and ending around A.D. 1450: The Evans Phase, which dated from A.D. 900-1050; the Harlan Phase, which dated from A.D. 1050 to A.D. 1100-1250; the Norman Phase, dating between A.D 1250 and 1350; and the Spiro Phase, which lasted until 1450. The human remains and copper band from the Pocola mining company excavations of the 1930s likely came from Craig mound. This mound was initially built in the Harlan phase (A.D. 1050-1250), but saw its most intense use as a ceremonial and burial site in the Norman and Spiro phases (A.D. 1250-1450). It is believed by many archeologists that the Caddo and Wichita were both culturally descended from the peoples who used the Spiro Mound site. Spiro is located within an area archeologically and ethnographically considered to have been occupied by a group ancestral to both the Caddo and Wichita. Based upon geographical, archeological, and historical evidence, and expert opinion, the University of Arkansas Museum Collections reasonably believes the Caddo and Wichita are culturally affiliated with the human remains described here. The present-day descendants of the Caddo are members of the Caddo Nation of Oklahoma and the present-day descendants of the Wichita are members of the Wichita and Affiliated Tribes, Oklahoma.

Determinations Made by the University of Arkansas Museum Collections

Officials of the University of Arkansas Museum collections have determined that:

• Pursuant to 25 U.S.C. 3001(9), the human remains described in this notice represent the physical remains of three individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary objects and the Caddo Nation of Oklahoma and the Wichita and Affiliated Tribes (Wichita, Keechi, Waco & Tawakonie), Oklahoma.

Additional Requestors and Disposition

Lineal descendants or representatives of any Indian Tribe or Native Hawaiian organization not identified in this notice that wish to request transfer of control of these human remains and associated funerary objects should submit a written request with information in support of the request to Mary Suter, University of Arkansas Museum Collections, Biomass Building 125, 2435 North Hatch Avenue, Fayetteville, AR 72704, telephone (479) 575-3456, email msuter@uark.edu, by July 18, 2018. After that date, if no additional requestors have come forward, transfer of control of the human remains and associated funerary objects to the Caddo Nation of Oklahoma and the Wichita and Affiliated Tribes (Wichita, Keechi, Waco & Tawakonie), Oklahoma may proceed.

The University of Arkansas Museum Collections is responsible for notifying the Caddo Nation of Oklahoma and the Wichita and Affiliated Tribes (Wichita, Keechi, Waco & Tawakonie), Oklahoma that this notice has been published.

Dated: May 9, 2018.
Melanie O'Brien,
Manager, National NAGPRA Program.

[FR Doc. 2018-13040 Filed 6-15-18; 8:45 am]

BILLING CODE 4312-52-P